DEPARTMENT OF ENERGY

Federal Energy Regulatory Commission

Combined Notice of Filings #1

Take notice that the Commission received the following electric corporate filings:

Docket Numbers: EC22-71-000.

Applicants: Canal Generating LLC, Canal 3 Generating LLC, Bucksport Generation LLC, Stonepeak Kestrel Energy Marketing LLC.

Description: Response to November 4, 2022 Deficiency Letter of Canal Generating LLC, et al.

Filed Date: 11/14/22.

Accession Number: 20221114-5413.

Comment Date: 5 p.m. ET 12/5/22.

Take notice that the Commission received the following electric rate filings:

Docket Numbers: ER11-4339-002.

Applicants: ENBALA Power Networks (USA), Inc.

Description: Notice of Non-Material Change in Status of ENBALA Power Networks (USA), Inc.

Filed Date: 11/14/22.

Accession Number: 20221114-5416.

Comment Date: 5 p.m. ET 12/5/22.

Docket Numbers: ER21-21-001.

Applicants: Harts Mill Solar, LLC.

Description: Refund Report: Refund Report Filing in Docket ER21-21 to be effective N/A.

Filed Date: 11/15/22.

Accession Number: 20221115-5004.

Comment Date: 5 p.m. ET 12/6/22.

Docket Numbers: ER21-2460-003.

Applicants: New York Independent System Operator, Inc.

Description: Compliance filing: NYISO Compliance Filing re: June 2022 Order on NYISO's Order No. 2222 Compliance to be effective 12/31/9998.

Filed Date: 11/14/22.

Accession Number: 20221114-5357.

Comment Date: 5 p.m. ET 12/5/22.

Docket Numbers: ER23-158-001.

Applicants: Public Service Company of Colorado.

Description: Tariff Amendment: Errata SCC_Attachment B and C to be effective 12/31/9998.

Filed Date: 11/10/22.

Accession Number: 20221110-5140.

Comment Date: 5 p.m. ET 11/17/22.

Docket Numbers: ER23-159-001.

Applicants: Public Service Company of Colorado.

Description: Tariff Amendment: Errata SCC_Joint Op. Agreement to be effective 12/31/9998.

Filed Date: 11/10/22.

Accession Number: 20221110-5097.

Comment Date: 5 p.m. ET 11/17/22.

Docket Numbers: ER23-161-001.

Applicants: Public Service Company of Colorado.

Description: Tariff Amendment: Errata SCC_Cost-based Coord. Services to be effective 12/31/9998.

Filed Date: 11/10/22.

Accession Number: 20221110-5100.

Comment Date: 5 p.m. ET 11/17/22.

Docket Numbers: ER23-162-001.

Applicants: Public Service Company of Colorado.

Description: Tariff Amendment: Errata_Social Cost of Carbon to be effective 12/31/9998.

Filed Date: 11/10/22.

Accession Number: 20221110-5095.

Comment Date: 5 p.m. ET 11/17/22.

Docket Numbers: ER23-428-000.

Applicants: AEP Texas Inc.

Description: § 205(d) Rate Filing: AEPTX-Oncor 5th A&R Interconnection Agreement to be effective 11/3/2022.

Filed Date: 11/15/22.

Accession Number: 20221115-5079.

Comment Date: 5 p.m. ET 12/6/22.

Docket Numbers: ER23-429-000.

Applicants: Southern California Edison Company.

Description: § 205(d) Rate Filing: LA, Pier S. Energy Storage Project (WDT1683-SA1205) to be effective 1/15/2023.

Filed Date: 11/15/22.

Accession Number: 20221115-5094.

Comment Date: 5 p.m. ET 12/6/22.

Docket Numbers: ER23-430-000.

Applicants: Evergy Kansas Central, Inc.

Description: § 205(d) Rate Filing: Equity 205 Filing January 2023 to be effective 1/1/2023.

Filed Date: 11/15/22.

Accession Number: 20221115-5102.

Comment Date: 5 p.m. ET 12/6/22.

Docket Numbers: ER23-431-000.

Applicants: Evergy Kansas Central, Inc.

Description: § 205(d) Rate Filing: Revision, Formula Rate Agreements Common Stock to be effective 1/1/2023.

Filed Date: 11/15/22.

Accession Number: 20221115-5103.

Comment Date: 5 p.m. ET 12/6/22.

Docket Numbers: ER23-432-000.

Applicants: American Electric Power Service Corporation, Ohio Power Company, PJM Interconnection, L.L.C.

Description: § 205(d) Rate Filing: American Electric Power Service Corporation submits tariff filing per 35.13(a)(2)(iii): AEP submits four Facilities Agreements re: ILDSA, SA No. 1336 to be effective 1/15/2023.

Filed Date: 11/15/22.

Accession Number: 20221115-5115.

Comment Date: 5 p.m. ET 12/6/22.

Docket Numbers: ER23-433-000.

Applicants: Evergy Kansas Central, Inc., Southwest Power Pool, Inc.

Description: § 205(d) Rate Filing: Evergy Kansas Central, Inc. submits tariff filing per 35.13(a)(2)(iii): Evergy Kansas Central and Evergy Kansas South Formula Rate Revisions to be effective 1/1/2023.

Filed Date: 11/15/22.

Accession Number: 20221115-5120.

Comment Date: 5 p.m. ET 12/6/22.

Docket Numbers: ER23-434-000.

Applicants: Tri-State Generation and Transmission Association, Inc.

Description: § 205(d) Rate Filing: Amendment to Rate Schedule FERC No. 65 to be effective 1/17/2022.

Filed Date: 11/15/22.

Accession Number: 20221115-5126.

Comment Date: 5 p.m. ET 12/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2022.
Debbie-Anne A. Reese,
Deputy Secretary.

[FR Doc. 2022-25558 Filed 11-22-22; 8:45 am]

BILLING CODE 6717-01-P